DEPARTMENT OF JUSTICE

Immigration and Naturalization Service

[INS No. 2053-00]

Notice of Intent To Prepare a Draft Environmental Impact Statement for the Construction of a Detention Facility in the Houston, Texas Area

AGENCY: Immigration and Naturalization Service, Justice.

ACTION: Notice of Intent to Prepare a Draft Environmental Impact Statement (DEIS).

SUMMARY:

Proposed Action

The Immigration and Naturalization Service (INS) will prepare a Draft Environmental Impact Statement (DEIS) for evaluation of the environmental impacts of the construction of a Contractor-Owned Contractor-Operated (COCO) detention facility near Houston, Texas. The INS has a requirement to expand the total capacity in the area by 494 beds. The facility is needed in the Houston area (within a 35 mile radius from the George Bush International Airport) to house and care for illegal aliens detained by the INS for illegal entry into the United States. With regard to planned construction, the DEIS will include evaluations of water, sewage system, parking, supporting administrative spaces, gates, gate access, lighting, and surveillance components. The direct project impacts, as well as cumulative impacts of the project, will also be addressed in the DEIS. According to the Council on Environmental Quality's regulation 40 CFR 1508.22, a scoping process is required prior to preparing a DEIS. As part of the DEIS process, the INS will hold a public meeting in the Houston, Texas area. Interested parties will be invited to help identify significant environmentally related items for evaluation in the DEIS. Notices will be published in the Houston local newspapers to provide the time, date, and location of the hearing.

Alternatives

The DEIS will include discussions of the alternative approaches to fulfilling the requirement for a detention facility in the area. This will include a review of potential construction sites within a 35-mile radius of the George Bush International Airport. The No Action alternative (i.e., cancellation of the proposed project) will also be reviewed.

Scoping Process

In developing the DEIS, interested parties and the public are invited to help decide the most significant issues to be examined. A scoping meeting will be held in the Houston area in the future. Notice of the meeting will be published in local newspapers prior to the meeting indicating the date, time, and location of the meeting.

DEIS Preparation

The identified significant and relevant scoping issues will be used to determine the environmental focus of the DEIS. Environmental experts will be used to prepare the analysis of the major environmental concerns in the DEIS. After completion, the DEIS will be made available for public review and comment prior to the preparation of the Final Environmental Impact Statement.

FOR FURTHER INFORMATION CONTACT: Richard Diefenbeck, Director of Facilities and Engineering Division, 425 “I” Street, NW, Washington, DC 20536, Telephone 202-514-3099.

Dated: May 1, 2000.
Doris Miessner,
Commissioner, Immigration and Naturalization Service.

[FR Doc. 00-11555 Filed 5-8-00; 8:45 am]

BILLING CODE 4410-10-M